DEPARTMENT OF AGRICULTURE

Office of the Secretary

Request for Public Comments on Administration of the Fiscal Year 2001 Tariff-Rate Quotas For Raw Cane Sugar and Certain Imported Sugars, Syrups, and Molasses

AGENCY: Foreign Agricultural Service, USDA.

ACTION: Request for public comments.

SUMMARY: This notice requests public comments on the administration of the fiscal year (FY) 2001 tariff-rate quotas (TRQs) for raw cane sugar and certain imported sugars, syrups, and molasses as provided for in Additional U.S. Note 5(a)(i) of the Harmonized Tariff Schedule of the United States (HTS).

DATES: Comments should be received on or before August 31, 2000, to be assured of consideration.

ADDRESSES: Comments should be mailed or delivered to the Director, Import Policies and Programs Division, Foreign Agricultural Service, Stop 1021, U.S. Department of Agriculture, 1400 Independence Avenue, SW, Washington, DC 20250-1021, or e-mailed to spitzer@fas.usda.gov. Comments received may be inspected between 10 a.m. and 4 p.m. at room 5531-S at the above address.

FOR FURTHER INFORMATION CONTACT: Robert Spitzer at the address above, or telephone at (202) 720-4825, or e-mail at spitzer@fas.usda.gov. Persons with disabilities who require this request for comment in an alternative means of communication (Braille, large print, audiotape, etc.) should contact the USDA Target Center at (202) 720-2600 (voice and TDD).

SUPPLEMENTARY INFORMATION: USDA is preparing to establish the FY 2001 TRQs for both raw cane sugar that may be entered under subheading 1701.11.10 of the HTS and certain sugars, syrups and molasses that may be entered under subheadings 1701.12.10, 1701.91.10, 1701.99.10, 1702.90.10, and 2106.90.44 of the HTS (i.e., the refined sugar TRQ).

USDA is not proposing a specific administrative approach for the raw cane or refined sugar TRQs at this time. However, interested parties may wish to consider the following factors when preparing comments: (1) In accordance with its international obligations under the World Trade Organization, USDA must establish a raw cane sugar TRQ of not less than 1,117,195 metric tons raw value and a refined sugar TRQ of not less than 22,000 metric tons raw value as provided for in Additional U.S. Note 5(a)(i) of the HTS; (2) In order for USDA to offer non-recourse support loans, the Federal Agriculture Improvement and Reform Act of 1996 requires the TRQ for imports of sugar to be established at, or increased to, a level in excess of 1,500,000 short tons raw value during the fiscal year; and (3) USDA proposes establishing the specialty sugar allocation at 14,656 metric tons, which will result in a refined sugar TRQ of at least 35,000 metric tons.

Signed at Washington, D.C., on August 4, 2000.
Timothy J. Galvin,
Administrator, Foreign Agricultural Service.

[FR Doc. 00-20337 Filed 8-9-00; 8:45 am]

BILLING CODE 3410-10-P